DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Bering Sea and Aleutian Islands Crab Economic Data Reports (EDR).

OMB Control Number: 0648-0518.

Form Number(s): None.

Type of Request: Regular (revision and extension of a previously approved collection).

Number of Respondents: 95.

Average Hours per Response: 20 hours each for full Catcher Vessel Crab EDR and full Catcher/Processor Crab EDR; 16 hours for full Processor Crab EDR; 1 hour each for certification-only Catcher Vessel Crab EDR, certification-only Catcher/Processor Crab EDR, and certification-only Processor Crab EDR; and 8 hours for Verification of Data.

Burden Hours: 1,893 hours.

Needs and Uses: This is an extension of a currently approved collection of information that covers the economic data collection components, known as “Economic Data Reports,” for the Bering Sea and Aleutian Island (BSAI) Crab Rationalization Program (CR Program). The CR Program is a catch share program that allocates BSAI crab resources among harvesters, processors, and coastal communities.

This information collection contains three forms: (1) Annual Catcher/Processor Crab EDR; (2) Annual Catcher Vessel Crab EDR; and (3) Annual Processor Crab EDR. This information collection also contains a data verification audit, to ensure that data submitted by respondents in the EDRs are accurate. Any owner or leaseholder of a vessel or processing plant, or a holder of a Registered Crab Receiver permit who harvested, processed, custom processed, or obtained custom processing for CR crab during a calendar year, must submit a completed EDR annually.

The EDRs provide the data necessary to analyze the economic effects of the CR Program and the economic performance of participants in the program, and to estimate impacts of future issues, problems, or proposed revisions to the program. The data collected through the EDRs are used to prepare reports, program reviews, and analysis of proposed revisions to the CR Program regulations.

Affected Public: Business or other for-profit organizations; Not-for-profit organizations.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-12555 Filed 6-13-19; 8:45 am]

BILLING CODE 3510-22-P